DEPARTMENT OF LABOR

Employment and Training Administration

[TA-W-53,084]

Eaton Corporation, Watertown, WI; Notice of Negative Determination Regarding Application for Reconsideration

By application of December 19, 2003, a petitioner requested administrative reconsideration of the Department's negative determination regarding eligibility for workers and former workers of the subject firm to apply for Trade Adjustment Assistance (TAA). The denial notice was published in the Federal Register on December 29, 2003 (68 FR 74977).

Pursuant to 29 CFR 90.18(c) reconsideration may be granted under the following circumstances:

(1) If it appears on the basis of facts not previously considered that the determination complained of was erroneous;

(2) if it appears that the determination complained of was based on a mistake in the determination of facts not previously considered; or

(3) if in the opinion of the Certifying Officer, a mis-interpretation of facts or of the law justified reconsideration of the decision.

The TAA petition, filed on behalf of workers at Eaton Corporation, Watertown, Wisconsin engaged in the production of printed circuit boards, was denied because criteria I.C and II.B and the “contributed importantly” group eligibility requirement of Section 222 of the Trade Act of 1974, as amended, were not met. The “contributed importantly” test is generally demonstrated through a survey of the workers' firm's customers. It was revealed that printed circuit boards produced by the subject firm are used internally within the Eaton Corporation. The survey of affiliated plants which receive the vast majority of the subject firm's products revealed no imports of like or directly competitive products. The subject firm has not shifted production of printed circuit boards abroad during the relevant period.

The petitioner alleges that the company shifted several production lines abroad. In particular, the petitioner alleges that while the printed circuit boards are processed at the subject firm, the final assembly of arc fault circuit breaker is completed at a plant in Mexico.

A company official was contacted in regard to these allegations. The official clarified that the automation process of production of arc fault circuit breakers was and is currently done by Eaton Corporation in Watertown, Wisconsin, while the manual assembly work has always been performed in Mexico and never in Watertown, Wisconsin. There never was a shift of arc fault circuit breaker production from the subject facility abroad.

The petitioner also alleges that there was a shift in the final assembly of Westinghouse products from the subject firm to Canada in the relevant period.

The official stated that the final assembly for the Westinghouse electronic assembly line was transferred to Pittsburgh, Pennsylvania in 1996-1997. This process stayed in Pittsburgh for approximately three years and then was moved to Calgary, Canada.

Finally, the petitioner alleges that the production of truck, which represented about one-third of the production of the Watertown facility, went to Motorola and possibly abroad.

The official reported that in 2000, the truck printed circuit board business was requoted and was removed from the Watertown, Wisconsin location. Motorola was awarded the business, and manufactured this product in the USA (Texas). It was revealed that Watertown facility has the same amount of printed circuit board business as it had in 2000. Finally, the official confirmed directly that there was no shift in production from the subject firm to any facility abroad in the relevant period.

Conclusion

After review of the application and investigative findings, I conclude that there has been no error or misinterpretation of the law or of the facts which would justify reconsideration of the Department of Labor's prior decisions. Accordingly, the application is denied.

Signed at Washington, DC, this 25th day of February, 2003.
Elliott S. Kushner,
Certifying Officer, Division of Trade Adjustment Assistance.

[FR Doc. 04-5613 Filed 3-11-04; 8:45 am]

BILLING CODE 4510-30-P